DEPARTMENT OF ENERGY

Federal Energy Regulatory Commission

Combined Notice of Filings

Take notice that the Commission has received the following Natural Gas Pipeline Rate and Refund Report filings:

Filings Instituting Proceedings

Docket Numbers: RP15-1026-000.

Applicants: Maritimes & Northeast Pipeline, L.L.C.

Description: Report Filing: MNUS Refund Report.

Filed Date: 6/9/16.

Accession Number: 20160609-5263.

Comments Due: 5 p.m. ET 6/21/16.

Docket Numbers: RP16-1026-000.

Applicants: Transcontinental Gas Pipe Line Company.

Description: § 4(d) Rate Filing: Virtual Measurement Points to be effective 7/15/2016.

Filed Date: 6/14/16.

Accession Number: 20160614-5067.

Comments Due: 5 p.m. ET 6/27/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-1014-001.

Applicants: Transcontinental Gas Pipe Line Company.

Description: Tariff Amendment: Clean-Up Filing—June 2016—AMENDMENT to be effective 7/3/2016.

Filed Date: 6/13/16.

Accession Number: 20160613-5076.

Comments Due: 5 p.m. ET 6/27/16.

Docket Numbers: RP16-608-002.

Applicants: ANR Pipeline Company.

Description: Compliance filing Amendment to Compliance RP16-608-001 to be effective 4/1/2016.

Filed Date: 6/13/16.

Accession Number: 20160613-5178.

Comments Due: 5 p.m. ET 6/27/16.

Docket Numbers: RP16-900-002.

Applicants: Kinetica Deepwater Express, LLC.

Description: Compliance filing Kinetica Deepwater Express Tariff Revisions to Remove Gathering References to be effective 6/1/2016.

Filed Date: 6/14/16.

Accession Number: 20160614-5000.

Comments Due: 5 p.m. ET 6/27/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 14, 2016.
Nathaniel J. Davis, Sr.,
Deputy Secretary.

[FR Doc. 2016-15273 Filed 6-28-16; 8:45 am]

BILLING CODE 6717-01-P